DENALI COMMISSION

Withdrawal of Denali Commission Fiscal Year 2025 Draft Work Plan

AGENCY: Denali Commission.

ACTION: Notice; withdrawal.

SUMMARY: On June 11, 2024, the Denali Commission published a Federal Register notice to allow public comment on the Denali Commission Fiscal Year 2025 Draft Work Plan. The notice is hereby withdrawn.

DATES: The document published at 89 FR 49162 on June 11, 2024, is withdrawn as of June 17, 2024.

FOR FURTHER INFORMATION CONTACT: Elinda Hetemi, Denali Commission, 550 W 7th Avenue, Suite 1230, Anchorage, AK 99501. Telephone: 907-271-3415. Email: ehetemi@denali.gov.

Authority: Public Law 105-277, sec. 304(b)(1).

Anne Stanislowski,
Administrative Officer.

[FR Doc. 2024-14400 Filed 6-28-24; 8:45 am]

BILLING CODE 3300-01-P